DEPARTMENT OF TRANSPORTATION

Federal Motor Carrier Safety Administration

49 CFR Part 391

[Docket No. FMCSA-2019-0049]

RIN 2126-AC21

Medical Review Board Task 21-1 Report: FMCSA Proposed Alternative Vision Standard

AGENCY: Federal Motor Carrier Safety Administration (FMCSA), Department of Transportation (DOT).

ACTION: Notice of availability (NOA); request for comments.

SUMMARY: In January 2021, FMCSA published a notice of proposed rulemaking (NPRM) to amend its regulations to permit individuals who cannot meet either the current distant visual acuity or field of vision standard, or both, in one eye to be physically qualified to operate a commercial motor vehicle (CMV) in interstate commerce. The comment period closed on March 15, 2021. The Agency received 69 comments. In May 2021, FMCSA requested, in part, that FMCSA's Medical Review Board (MRB) review and analyze the comments from medical professionals and associations and make recommendations regarding the proposed alternative vision standard for FMCSA to consider. The Agency announces the availability of the MRB's report and requests comments on the MRB's recommendations. MRB Task 21-1 Report is available in Docket Number FMCSA-2019-0049.

DATES: Comments must be received on or before September 23, 2021.

ADDRESSES: You may submit comments identified by Docket Number FMCSA-2019-0049 using any of the following methods:

• Federal eRulemaking Portal: Go to https://www.regulations.gov/docket/FMCSA-2019-0049/document. Follow the online instructions for submitting comments.

• Mail: Dockets Operations, U.S. Department of Transportation, 1200 New Jersey Avenue SE, West Building, Ground Floor, Room W12-140, Washington, DC 20590-0001.

• Hand Delivery or Courier: Dockets Operations, U.S. Department of Transportation, 1200 New Jersey Avenue SE, West Building, Ground Floor, Room W12-140, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Ms. Christine A. Hydock, Chief, Medical Programs Division, FMCSA,1200 New Jersey Avenue SE, Washington, DC 20590, (202) 366-4001, FMCSAMedical@dot.gov. If you have questions on viewing or submitting material to the docket, call Dockets Operations at (202) 366-9826.

SUPPLEMENTARY INFORMATION:

I. Public Participation and Request for Comments

A. Submitting Comments

If you submit a comment, please include the docket number for this NOA (FMCSA-2019-0049), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2019-0049/document, click on this NOA, click “Comment,” and type your comment into the text box on the following screen.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

Confidential Business Information (CBI)

CBI is commercial or financial information that is both customarily and actually treated as private by its owner. Under the Freedom of Information Act (5 U.S.C. 552), CBI is exempt from public disclosure. If your comments responsive to this NOA contain commercial or financial information that is customarily treated as private, that you actually treat as private, and that is relevant or responsive to this NOA, it is important that you clearly designate the submitted comments as CBI. Please mark each page of your submission that constitutes CBI as “PROPIN” to indicate it contains proprietary information. FMCSA will treat such marked submissions as confidential under the Freedom of Information Act, and they will not be placed in the public docket. Submissions containing CBI should be sent to Mr. Brian Dahlin, Chief, Regulatory Analysis Division, Office of Policy, FMCSA, 1200 New Jersey Avenue SE, Washington DC 20590-0001. Any comments FMCSA receives not specifically designated as CBI will be placed in the public docket.

B. Viewing Comments and Documents

To view any documents mentioned as being available in the docket, go to https://www.regulations.gov/docket/FMCSA-2019-0049/document and choose the document to review. To view comments, click this NOA, and click “Browse Comments.” If you do not have access to the internet, you may view the docket online by visiting Dockets Operations in Room W12-140 on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

C. Privacy Act

DOT solicits comments from the public to better inform its rulemaking process, in accordance with 5 U.S.C. 553(c). DOT posts these comments, without edit, including any personal information the commenter provides, to www.regulations.gov, as described in the system of records notice DOT/ALL 14—Federal Docket Management System (FDMS), which can be reviewed at www.transportation.gov/privacy.

II. Background

FMCSA's mission is to reduce crashes, injuries, and fatalities involving large trucks and buses. FMCSA is authorized by statute to establish minimum physical qualification standards for drivers of CMVs operating in interstate commerce. To ensure the physical qualification of CMV drivers, the Agency has established a vision standard, along with several other physical standards. The current vision standard can be found at 49 CFR 391.41(b)(10).

The Federal Highway Administration, the predecessor agency to FMCSA, adopted the current vision standard April 22, 1970 (35 FR 6458). Under this standard, an individual is physically qualified to drive a CMV if the individual has distant visual acuity of at least 20/40 (Snellen) in each eye without corrective lenses or visual acuity separately corrected to 20/40 (Snellen) or better with corrective lenses, distant binocular acuity of at least 20/40 (Snellen) in both eyes with or without corrective lenses, field of vision of at least 70 degrees in the horizontal meridian in each eye, and the ability to recognize the colors of traffic signals and devices showing standard red, green, and amber (49 CFR 391.41(b)(10)). This standard has not changed since it became effective on January 1, 1971.

Since 1998, FMCSA has maintained an exemption program for individuals who do not meet certain vision standards. The Agency considers vision exemptions on a case-by-case basis upon application by CMV drivers who do not meet either the distant visual acuity or field of vision standard, or both, of § 391.41(b)(10) in one eye. The Agency does not grant exemptions for color blindness.

On January 12, 2021, FMCSA published an NPRM that proposed an alternative vision standard for individuals unable to meet either the current distant visual acuity or field of vision standard, or both (86 FR 2344). The comment period on the NPRM closed on March 15, 2021. The Agency received 69 comments.

III. MRB Task 21-1

The MRB was established to provide FMCSA with medical advice and recommendations on medical standards and guidelines for the physical qualifications of CMV operators, medical examiner education, and medical research (49 U.S.C. 31149(a)(1)). The MRB, in view of its statutory creation and advisory function, is chartered by DOT as an advisory committee under the provisions of the Federal Advisory Committee Act (5 U.S.C. App.) See also Announcement of Establishment of the Federal Motor Carrier Safety Administration Medical Review Board (70 FR 57642; Oct. 3, 2005). The members of the MRB are appointed by the Secretary to reflect expertise in a variety of medical specialties relevant to the driver fitness requirements of FMCSA (49 U.S.C. 31149(a)(2)).

To assist in the development of a final rule, on May 11, 2021, FMCSA requested advice from the MRB for the Agency to consider. Specifically, FMCSA asked the MRB to review and analyze all comments from medical professionals and associations, make recommendations regarding the proposed alternative vision standard, and identify factors the Agency should consider regarding next steps in the vision rulemaking. In addition, FMCSA requested recommendations with respect to whether the information requested from eye specialists on the proposed Vision Evaluation Report provides sufficient information for a medical examiner to make a medical certification determination. The MRB held a public meeting to discuss MRB Task 21-1 on May 19 and 20, 2021. The Agency received the MRB's final report on July 20, 2021. Details of the meeting, including MRB Task 21-1, the MRB Task 21-1 Report, and supporting materials used by the MRB, are posted on the Agency's public website at https://www.fmcsa.dot.gov/medical-review-board-mrb-meeting-topics.

IV. MRB Task 21-1 Report

The MRB's final report is available in the docket (in addition to being available on the Agency's public website). The MRB Task 21-1 Report contains detailed recommendations for FMCSA to consider as it develops a final rule. The Agency believes that public comment on the recommendations will assist it in evaluating the advice it has received from the MRB. Comments must be limited to addressing the recommendations in the MRB Task 21-1 Report. The MRB made the following recommendations in its MRB Task 21-1 Report:

I. Overview

A. With respect to the medical aspects of the proposed alternative vision standard only, if the MRB does not make a specific recommendation to change a provision, the MRB concurs with the provision as proposed in the January 2021 NPRM.

B. The MRB recommends that the Agency deemphasize that the alternative vision standard begins with the vision evaluation because the individual may be examined first by the medical examiner.

II. Recommendations for the Regulatory Standards

A. The MRB recommends that the current field of vision requirement be changed from 70 degrees to 120 degrees for the alternative vision standard for monocular vision drivers.

B. The MRB agrees that the requirement for sufficient time to adapt to and compensate for the vision deficiency should not be changed in the proposed alternative vision standard. The MRB notes it does not have sufficient data to establish a specific waiting period for an individual who has a new vision deficiency.

III. Recommendations for the Vision Evaluation Report

A. The MRB recommends that the physical qualification standards for the alternative vision standard, as set forth in the paragraph below from Task 21-1 but modified to reflect a field of vision of at least 120 degrees, be added to page 1 in the instructions after FMCSA's definition of monocular vision:

The proposal would provide that, to be physically qualified under the alternative vision standard, the individual must: (1) Have in the better eye distant visual acuity of at least 20/40 (Snellen), with or without corrective lenses, and field of vision of at least 120 degrees in the horizontal meridian; (2) be able to recognize the colors of traffic signals and devices showing standard red, green, and amber; (3) have a stable vision deficiency; and (4) have had sufficient time to adapt to and compensate for the vision deficiency.

B. The MRB recommends that the Agency expand the medical opinion in question 12 to require that the individual can drive a CMV safely with the vision condition. The MRB notes that the medical opinion provided by the ophthalmologist or optometrist regarding whether the individual has adapted to and compensated for the change in vision sufficiently encompasses depth perception. The MRB notes further that question 12 sufficiently implies that time is needed to adapt and compensate for the change in vision but appropriately relies on the ophthalmologist or optometrist conducting the vision evaluation to determine the appropriate period of time on a case-by-case basis.

C. The MRB recommends that the requests for information about stability in questions 11 and 13 both be retained. The questions solicit different information.

D. The MRB recommends that the Agency change the order of the requested information to be questions 1 through 9, 10, 12, 13, and then 11.

E. The MRB recommends that the vision evaluation report not request information relating to severe non-proliferative diabetic retinopathy and proliferative diabetic retinopathy because they are evaluated separately under the standard for insulin-treated diabetes mellitus.

The Vision Evaluation Report, Form MCSA-5871, with the MRB's recommended edits is an attachment to the MRB Task 21-1 Report, which can be found in the docket (in addition to being available on the Agency's public website).

V. Comments Requested

Comments are requested on any and all of the recommendations provided in the MRB Task 21-1 Report but only on those recommendations. To the extent possible, comments should include supporting materials, such as data analyses, studies, reports, or journal articles. FMCSA will consider these comments, in addition to the comments submitted in response to the NPRM, in determining how to proceed in the vision rulemaking.

Issued under authority delegated in 49 CFR 1.87.
Meera Joshi,
Deputy Administrator.

[FR Doc. 2021-17850 Filed 8-23-21; 8:45 am]

BILLING CODE 4910-EX-P